OFFICE OF SPECIAL COUNSEL

Proposed Information Collection Activities; Request for Comment

AGENCY: U.S. Office of Special Counsel.

ACTION: Notice.

SUMMARY: In accordance with the requirements of the Paperwork Reduction Act of 1995 (44 U.S.C. chapter 35), and implementing regulations at 5 CFR part 1320, this is the second Federal Register notice published by the U.S. Office of Special Counsel (OSC) about proposed information collection activities, consisting of two forms for the collection of information pursuant to OSC regulations at 5 CFR 1800.1 (Filing complaint of prohibited personnel practices or other prohibited activities) and 5 CFR 1800.2 (Filing disclosures of information). OSC is requesting approval from the Office of Management and Budget (OMB) to extend the use of two previously approved information collections: (1) Form OSC-11 (Complaint of Possible Prohibited Personnel Practice or Other Prohibited Activity); and (2) Form OSC-12 (Disclosure of Information), as revised. Both forms to be submitted include minor technical edits previously approved by OMB. Form OSC-11 (complaint form) also includes: (1) revisions to three consent statements in the form; (2) the addition of information on OSC's jurisdiction over employees of the Transportation Security Administration; (3) revision of the format of the cover sheet providing information on how to file a complaint; and (4) revision of the format for providing information on disclosures alleged to have been the basis for whistleblower retaliation. OMB's current approval for these collections of information expires on August 31, 2003.

On March 10, 2003, notice of this request for OMB approval with a request for public comment was published in the Federal Register at 68 FR 11442. The notice and the proposed forms were also posted on OSC's Web site (at http://www.osc.gov) on March 10, 2003. No comments on these information collections were received.

Federal employees, other federal agencies, and the general public are invited to comment on OSC's information collection activities relating to possible prohibited employment practices and whistleblower disclosures.

DATES: Comments should be received on or before July 10, 2003.

ADDRESSES: Comments should be sent to the Office of Information and Regulatory Affairs at the Office of Management and Budget, 725 Seventeenth Street, NW, Attention: Desk Officer for U.S. Office of Special Counsel, Washington, DC 20503. A copy of any comments should also be sent to Kathryn Stackhouse, General Law Counsel, Legal Counsel and Policy Division, U.S. Office of Special Counsel, 1730 M Street, NW, Washington, DC 20036-4505.

FOR FURTHER INFORMATION CONTACT: Copies of the collections of information and supporting documentation are available from Kathryn Stackhouse, General Law Counsel, Legal Counsel and Policy Division, U.S. Office of Special Counsel, Planning and Advice Division, 1730 M Street, NW, Suite 300, Washington, DC 20036-4505; telephone (202) 653-8971; facsimile (202) 653-5151.

SUPPLEMENTARY INFORMATION: Comment is requested on the following two collections of information:

1. Title of Collection: Complaint of Possible Prohibited Personnel Practice or Other Prohibited Activity.

Agency Form Number: OSC-11 (OMB Control Number 3255-0002).

Summary of the Collection of Information: This complaint form is required for use by current and former Federal employees and applicants for Federal employment, under 5 CFR 1800.1, to submit allegations of possible prohibited personnel practices or other prohibited activity for investigation and possible prosecution by OSC, except for allegations involving the Hatch Act, which may be submitted by providing the information described at 5 CFR 1800.1.

Need for Information and Proposed Use: This information is needed by OSC to investigate and seek any appropriate remedies for allegations of prohibited personnel practices and other prohibited activity, pursuant to its statutory authority at 5 U.S.C. 1211, et seq.

Likely Respondents: Current and former federal employees, and applicants for federal employment.

Estimated Annual Number of Respondents: 1771.

Frequency: On occasion.

Estimated Average Burden Per Respondent: 1 hour and 15 minutes.

Estimated Annual Burden: 2214 hours.

2. Title of Collection: Disclosure of Information.

Agency Form Number: OSC-12 (OMB Control Number 3255-0002).

Summary of the Collection of Information: This form is intended for use by current and former federal employees, and applicants for federal employment, in making whistleblower disclosures of violations of any law, rule, or regulation; gross mismanagement; a gross waste of funds; an abuse of authority; or a substantial and specific danger to public health or safety.

Need for Information and Proposed Use: This information is needed by OSC to review whistleblower disclosures of wrongdoing in federal agencies, and to refer disclosures in appropriate cases to the head of the agency involved for investigation, pursuant to its statutory authority at 5 U.S.C. 1211, et seq.

Likely Respondents: Current and former federal employees, and applicants for federal employment.

Estimated Annual Number of Respondents: 475.

Frequency: On occasion.

Estimated Average Burden Per Respondent: 1 hour.

Estimated Annual Burden: 475 hours.

The two proposed forms described above are available on OSC's Web site (at http://www.osc.gov). Consistent with §§ 1703 and 1705 of the Government Paperwork Elimination Act, Public Law 105-277, Title XVII, OSC plans to provide submitters with the option of filing complaints and disclosures electronically, after completion of the necessary planning and implementation measures, no later than October 21, 2003.

Dated: June 2, 2003.
William E. Reukauf,
Acting Special Counsel.

[FR Doc. 03-14552 Filed 6-9-03; 8:45 am]

BILLING CODE 7405-01-S